DEPARTMENT OF TRANSPORTATION

Federal Aviation Administration

14 CFR Part 71

[Docket No. 29334; Amendment No. 71-37]

Airspace Designations; Incorporation by Reference

AGENCY: Federal Aviation Administration (FAA), DOT.

ACTION: Final rule.

SUMMARY: This action amends Title 14 Code of Federal Regulations (14 CFR) part 71 relating to airspace designations to reflect the approval by the Director of the Federal Register of the incorporation by reference of FAA Order 7400.9N, Airspace Designations and Reporting Points. This action also explains the procedures the FAA will use to amend the listings of Class A, B, C, D, and E airspace areas; air traffic service routes; and reporting points incorporated by reference.

DATES: These regulations are effective September 16, 2005, through September 15, 2006. The incorporation by reference of FAA Order 7400.9N is approved by the Director of the Federal Register as of September 16, 2005, through September 15, 2006.

FOR FURTHER INFORMATION CONTACT: Tameka Bentley, Airspace and Rules, Office of System Operations and Safety, Federal Aviation Administration, 800 Independence Avenue, SW., Washington, DC 20591; telephone: (202) 267-8783.

SUPPLEMENTARY INFORMATION:

History

FAA Order 7400.9M, Airspace Designations and Reporting Points, dated August 30, 2004, and effective September 16, 2004, listed Class A, B, C, D and E airspace areas; air traffic service routes; and reporting points. Due to the length of these descriptions, the FAA requested approval from the Office of the Federal Register to incorporate the material by reference in the Federal Regulations section 71.1, effective September 16, 2004, through September 15, 2005. During the incorporation by reference period, the FAA processed all proposed changes of the airspace listings in FAA Order 7400.9M in full text as proposed rule documents in the Federal Register. Likewise, all amendments of these listings were published in full text as final rules in the Federal Register. This rule reflects the periodic integration of these final rule amendments into a revised edition of Order 7400.9N, Airspace Designations and Reporting Points. The Director of the Federal Register has approved the incorporation by reference of FAA Order 7400.9N in § 71.1, as of September 16, 2005, through September 15, 2006. This rule also explains the procedures the FAA will use to amend the airspace designations incorporated by reference in part 71. Sections 71.5, 71.15, 71.31, 71.33, 71.41, 71.51, 71.61, 71.71, and 71.901 are also updated to reflect the incorporation by reference of FAA Order 7400.9N.

The Rule

This action amends 14 CFR part 71 to reflect the approval by the Director of the Federal Register of the incorporation by reference of FAA Order 7400.9N, effective September 16, 2005, through September 15, 2006. During the incorporation by reference period, the FAA will continue to process all proposed changes of the airspace listings in FAA Order 7400.9N in full text as proposed rule documents in the Federal Register. Likewise, all amendments of these listings will be published in full text as final rules in the Federal Register. The FAA will periodically integrate all final rule amendments into a revised edition of the order, and submit the revised edition to the Director of the Federal Register for approval for incorporation by reference in § 71.1.

The FAA has determined that this action: (1) Is not a “significant regulatory action” under Executive Order 12866; (2) is not a “significant rule” under DOT Regulatory Policies and Procedures (44 FR 11034; February 26, 1979); and (3) does not warrant preparation of a regulatory evaluation as the anticipated impact is so minimal. This action neither places any new restrictions or requirements on the public, nor changes the dimensions or operation requirements of the airspace listings incorporated by reference in part 71. Consequently, notice and public procedure under 5 U.S.C. 553(b) are unnecessary. Because this action will continue to update the changes to the airspace designations, which are depicted on aeronautical charts, and to avoid any unnecessary pilot confusion, I find that good cause exists, under 5 U.S.C. 553(d), for making this amendment effective in less than 30 days.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

2. Section 71.1 is revised to read as follows:

§ 71.1 Applicability.

The complete listing for all Class A, B, C, D, and E airspace areas; air traffic service routes; and reporting points can be found in FAA Order 7400.9N, Airspace Designations and Reporting Points, dated September 1, 2005. This incorporation by reference was approved by the Director of the Federal Register in accordance with 5 U.S.C. 552 (a) and 1 CFR part 51. The approval to incorporate by reference FAA Order 7400.9N is effective September 16, 2005, through September 15, 2006. During the incorporation by reference period, proposed changes to the listings of Class A, B, C, D, and E airspace areas; air traffic service routes; and reporting points will be published in full text as proposed rule documents in the Federal Register. Amendments to the listings of Class A, B, C, D, and E airspace areas; air traffic service routes; and reporting points will be published in full text as final rules in the Federal Register. Periodically, the final rule amendments will be integrated into a revised edition of the order and submitted to the Director of the Federal Register for approval for incorporation by reference in this section. Copies of FAA Order 7400.9N may be obtained from the Law Library of the Chief Counsel, Federal Aviation Administration, 800 Independence Avenue, SW., Washington, DC 20591, (202) 267-3174. Copies of FAA Order 7400.9N may be inspected in Docket No. 29334, at the same address above, weekdays between 8 a.m. and 4:30 p.m., or on the Federal Register Web site at http://www.regulations.gov. This section is effective September 16, 2005, through September 15, 2006.

§ 71.5 [Amended]

3. Section 71.5 is amended by removing the words “FAA Order 7400.9M” and adding, in their place, the words “FAA Order 7400.9N.”

§ 71.15 [Amended]

4. Section 71.15 is amended by removing the words “FAA Order 7400.9” and adding, in their place, the words “FAA Order 7400.9N.”

§ 71.31 [Amended]

5. Section 71.31 is amended by removing the words “FAA Order 7400.9M” and adding, in their place, the words “FAA Order 7400.9N.”

§ 71.33 [Amended]

6. Paragraph (c) of § 71.33 is amended by removing the words “FAA Order 7400.9M” and adding, in their place, the words “FAA Order 7400.9N.”

§ 71.41 [Amended]

7. Section 71.41 is amended by removing the words “FAA Order 7400.9M” and adding, in their place, the words “FAA Order 7400.9N.”

§ 71.51 [Amended]

8. Section 71.51 is amended by removing the words “FAA Order 7400.9M” and adding, in their place, the words “FAA Order 7400.9N.”

§ 71.61 [Amended]

9. Section 71.61 is amended by removing the words “FAA Order 7400.9M” and adding, in their place, the words “FAA Order 7400.9N.”

§ 71.71 [Amended]

10. Paragraphs (b), (c), (d), (e), and (f) of § 71.71 are amended by removing the words “FAA Order 7400.9M” and adding, in their place, the words “FAA Order 7400.9N.”

§ 71.901 [Amended]

11. Paragraph (a) of § 71.901 is amended by removing the words “FAA Order 7400.9M” and adding, in their place, the words “FAA Order 7400.9N.”

Issued in Washington, DC, on August 12, 2005.
Sheri Edgett Baron,
Acting Manager, Airspace and Rules.

[FR Doc. 05-16326 Filed 8-31-05; 8:45 am]

BILLING CODE 4910-13-P